DEPARTMENT OF THE INTERIOR

Bureau of Land Management

[CO-500-1430-EU, COC-57129]

Direct Sale of Public Land in Conejos County, CO

AGENCY: Bureau of Land Management, Interior.

ACTION: Notice of realty action.

SUMMARY: A 3.21 acre parcel of public land in Conejos County, Colorado is being considered for direct sale to Hal and Mindy Wilson to resolve an unauthorized use of public land.

DATES: Interested persons may submit written comments to the Bureau of Land Management (BLM) at the address stated below. Comments must be received not later than April 3, 2006.

ADDRESSES: Send all written comments concerning this proposed sale to the Bureau of Land Management, Manager, San Luis Valley Public Lands Center, (SLV PLC) Attn: Bill Miller, 1803 West Highway 160, Monte Vista, Colorado 81144. Electronic format submittals will not be accepted.

FOR FURTHER INFORMATION CONTACT: Bill Miller, Realty Specialist, at (719) 852-6219.

SUPPLEMENTARY INFORMATION: In accordance with the applicable provisions of 43 CFR Parts 2710 and 2711, the following described public land in Conejos County, Colorado, has been examined and found suitable for sale pursuant to authority provided in Sec. 203 of the Federal Land Policy and Management Act of 1976 (FLPMA), as amended, (43 U.S.C. 1713). It is proposed to be sold direct to Hal and Mindy Wilson to resolve an unauthorized use of public land. No significant resource value will be affected. Sale of the parcel conforms to criteria in the San Luis Valley Resource Management Plan, dated December 1991. Proceeds from sale of this public land will be deposited in the Federal Land Disposal Account under Sec. 206 of the Federal Land Transaction Facilitation Act (43 U.S.C. 2305).

New Mexico Principal Meridian

T. 36 N., R. 6 E.

Sec. 24: lot 1.

Containing approximately 3.21 acres. The appraised fair market value is $2,250.

Publication of this notice in the Federal Register shall segregate the lands described above from appropriation under the public land laws, including the mining laws. The segregative effect of this notice shall terminate upon issuance of a patent or upon expiration of 270 days from the date of publication in the Federal Register, whichever occurs first.

The following reservations, rights, and conditions will be included in the patent that may be issued for the above parcel of Federal land: A reservation to the United States for a right-of-way for ditches and canals constructed by the authority of the United States. Act of August 30, 1890 (43 U.S.C. 945), and a reservation of all minerals to the United States.

The land will not be offered for sale until at least 60 days after April 18, 2006. The prospective purchaser will be allowed 30 days from receipt of a written offer from the SLV PLC to submit a deposit of at least 20 percent of the appraised fair market value, and 180 days thereafter to submit the balance.

Failure to timely submit full payment for the parcel within the 180 days will constitute a termination of the opportunity to purchase the parcel at direct sale.

No warranty of any kind, expressed or implied, is given by the United States as to the title, physical condition, or potential uses of the parcel proposed for sale.

Public Comments

Information concerning the proposed land sale, including reservations, appraisal, planning and environmental documents, and mineral report, is available for review at the SLV PLC Office. Normal business hours are 8 a.m. to 4:30 p.m. MDT, Monday through Friday, except Federal holidays.

The general public and interested parties may submit written comments regarding the proposed sale to the SLV PLC Manager, Monte Vista Office, not later than 45 days after publication of this Notice in the Federal Register. Comments received during this process, including respondent's name, address, and other contact information, will be available for public review. Individual respondents may request confidentiality. If you wish to request that BLM consider withholding your name, address, and other contact information (phone number, e-mail address, or fax number, etc.) from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

Any adverse comments will be reviewed by the BLM State Director, Colorado, who may sustain, vacate, or modify this realty action in whole or in part. In the absence of any adverse comments, this realty action will become the final determination of the Department of the Interior.

Dated: December 8, 2005.
Cindy Rivera,
Physical Resources Staff Officer.

[FR Doc. E6-2293 Filed 2-16-06; 8:45 am]

BILLING CODE 4310-JB-P